DEPARTMENT OF HEALTH AND HUMAN SERVICES

Health Resources and Services Administration

Council on Graduate Medical Education; Notice of Meeting

Addendum

In Federal Register Document 01-5817 appearing on page 14159 in the issue for Friday, March 9, 2001, the following agenda item has been added for the Council meeting on April 12, 2001: Two invited speakers will address multi-disciplinary educational needs to assure quality health care in response to the Institute of Medicine's second report on patient safety.

Dated: March 15, 2001.
Jane M. Harrison,
Director, Division of Policy Review and Coordination.

[FR Doc. 01-7088 Filed 3-21-01; 8:45 am]

BILLING CODE 4160-15-P